DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Strategic Prevention Framework State Incentive Grant (SPF SIG) Program—New

The Substance Abuse and Mental Health Services Administration's (SAMHSA) Center for Substance Abuse Prevention (CSAP) is responsible for the Evaluation of the Strategic Prevention Framework State Incentive Grant (SPF SIG) Program. The program is a major national initiative designed to: (1) Prevent the onset and reduce the progression of substance abuse, including childhood and underage drinking; (2) reduce substance abuse-related problems in communities; and, (3) build prevention capacity and infrastructure at the State/territory and community levels. Five steps comprise the SPF:

▪ Step 1: Profile population needs, resources, and readiness to address needs and gaps.

▪ Step 2: Mobilize and/or build capacity to address needs.

▪ Step 3: Develop a comprehensive strategic plan.

▪ Step 4: Implement evidence-based prevention programs, policies, and practices.

▪ Step 5: Monitor, evaluate, sustain, and improve or replace those that fail.

Under a contract with CSAP, an evaluation team will implement a multi-method quasi-experimental evaluation at national, State, and community levels. Evaluation data will be collected from 26 states receiving grants in 2004 and 2005 and as many as 32 non-grantee states that will serve as a comparison group. The primary evaluation objective is to determine the impact of SPF SIG on the SAMHSA National Outcome Measures (NOMs).

This notice invites comment on state-level and community-level data collection instruments. The instruments for assessing state-level change will be included in an OMB review package submitted immediately after the expiration of the comment period and are the main focus of this announcement. These instruments will be reviewed first by OMB to ensure that state-level data collection occurs as specified in the evaluation plan (on or before June 30, 2006). Because the states have not awarded community-level funding, the evaluators will not initiate community-level data collection until late in 2006. Thus, the community-level survey will be submitted as an addendum approximately one month after the comment period expires. However, the instrument is described in this notice and comments on the instrument are invited.

State-Level Data Collection

Two instruments were developed for assessing state-level effects. Both instruments are guides for telephone interviews that will be conducted by trained interviewers three to four times over the life of the SPF SIG award. The Strategic Prevention Framework Index will be used to assess the relationship between SPF implementation and change in the national outcome measures. The State Infrastructure Index will capture data to assess infrastructure change and to test the relationship of this change to outcomes. Prevention infrastructure refers to the organizational features of the system that delivers prevention services, including all procedures related to planning, data management systems, workforce development, intervention implementation, evaluation and monitoring, financial management, and sustainability. The estimated annual burden for state-level data collection is displayed below in the table.

State Level Burden Estimate
[Year 1]
Interview guide | Content description | Number of respondents | Number of responses | Hourly burden per response | Total hourly burden
SPF Implementation Index | SEW activities, indicators for each SPF step, including cultural competence throughout all five steps | 26 | 1 | 3 | 78
State Infrastructure Index | Assessment of a state's progress over time toward the implementation of these best practices | 26 | 1 | 6 | 156
Total State Level |  | 26 |  |  | 234

Community-Level Data Collection

The Community Level Index is a two-part, web-based survey for capturing information about SPF SIG implementation at the community level. Part 1 of the survey focuses on the five SPF SIG steps and efforts to ensure cultural competency throughout the SPF SIG process. Part 2 will capture data on the specific intervention(s) implemented at the community level including both individual-focused and environmental prevention strategies. Community partners receiving SPF SIG awards will be required to complete the survey every six months, using a secure password system. The survey data will be analyzed in conjunction with state and community outcome data to determine the relationship, if any, between the SPF process and substance use outcomes. This survey will be submitted as an addendum to the forthcoming OMB package approximately one month after the expiration of the comment period. The estimated annual burden for community-level data collection is displayed below. Note that the total burden assumes an average of 15 community-level sub-grantees per state (a total of 390 respondents) and two survey administrations per year. Note also that some questions will be addressed only once and the responses will be used to pre-fill subsequent surveys. In addition, as community partners work through the SPF steps, they will report only on step-related activities. For example, needs assessment activities will likely precede monitoring and evaluation activities. Thus, respondents will answer questions related to needs assessment in the first few reports but will not need to address monitoring and evaluation items until later in the implementation process.

Community Level Burden Estimate
Community-level instrument section/domain | Number of respondents | Responses per respondent | Burden per response | Total burden
Year 1
Part I, 1-11 State Responses | 26 | 1 | 0.08 | 2.08
Part I, 12-20 Contact Information and Reporting Period | 390 | 1 | 0.08 | 31.20
Part I, 21-26 Organization Type and Funding | 390 | 1 | 0.08 | 31.20
Part I, 27-33 Cultural Competence, Sustainability, and Framework Progress | 390 | 2 | 0.17 | 132.60
Part I, 34-66 Needs and Resources Assessments | 390 | 2 | 0.50 | 390.00
Part I, 67-159 Capacity Building Activities | 390 | 2 | 0.50 | 390.00
Part I, 160-178 Strategic Plan Development | 390 | 2 | 0.50 | 390.00
Part I, 198-216 Systems and Contextual Factors and Closing Questions | 390 | 2 | 1.00 | 780.00
Part I, subform 217-231 Coalition Organizational Information | 390 | 1 | 0.17 | 66.30
Part II 1-40; 45 Intervention Specific Information and Adaptations | 390 | 3 | 1.00 | 1,170.00
Review of past responses | 390 | 2 | 0.50 | 390.00
Preparation and gathering of supporting materials | 390 | 2 | 2.00 | 1,560.00
State Review of Community Responses | 26 | 2 | 1.00 | 52.00
Total Year 1 Burden—State-level | 26 |  |  | 54.08
Total Year 1 Burden—Community-level | 390 |  |  | 5,331
Year 2
Part I, 27-33 Cultural Competence, Sustainability, and Framework Progress | 390 | 2 | 0.17 | 132.60
Part I, 67-15 Capacity Building Activities | 390 | 2 | 0.50 | 390.00
Part I, 160-178 Strategic Plan Development | 390 | 2 | 0.50 | 390.00
Part I, 179-184 Intervention Implementation | 390 | 2 | 0.17 | 132.60
Part I, 198-216 Systems and Contextual Factors and Closing Questions | 390 | 2 | 1.00 | 780.00
Part II 1-40; 45 Intervention Specific Information and Adaptations | 390 | 3 | 1.00 | 1,170.00
Part II 41-44 Intervention Outcomes | 390 | 6 | 0.17 | 397.80
Part II subforms Intervention Component Information | 390 | 6 | 1.00 | 2,340.00
Review of past responses | 390 | 2 | 0.50 | 390.00
Preparation and gathering of supporting materials | 390 | 2 | 2.00 | 1,560.00
State Review of Community Responses | 26 | 2 | 1.00 | 52.00
Total Year 2 Burden—State-level | 26 |  |  | 52.00
Total Year 2 Burden—Community-level | 390 |  |  | 7,683
Year 3
Part I, 27-33 Cultural Competence, Sustainability, and Framework Progress | 390 | 2 | 0.17 | 132.60
Part I, 67-159 Capacity Building Activities | 390 | 2 | 0.50 | 390.00
Part I, 179-184 Intervention Implementation | 390 | 2 | 0.17 | 132.60
Part I, 185-197 Monitoring and Evaluation | 390 | 2 | 0.33 | 257.40
Part I, 198-216 Systems and Contextual Factors and Closing Questions | 390 | 2 | 1.00 | 780.00
Part II 1-40; 45 Intervention Specific Information and Adaptations | 390 | 3 | 1.00 | 1,170.00
Part II 41-44 Intervention Outcomes | 390 | 6 | 0.17 | 397.80
Part II subforms Intervention Component Information | 390 | 6 | 1.00 | 2,340.00
Review of past responses | 390 | 2 | 0.50 | 390.00
Preparation and gathering of supporting materials | 390 | 2 | 2.00 | 1,560.00
State Review of Community Responses | 26 | 2 | 1.00 | 52.00
Total Year 3 Burden—State-level | 26 |  |  | 52.00
Total Year 3 Burden—Community-level | 390 |  |  | 7,550.00
Total Average Annual Burden—Slate-level | 26 |  |  | 53.00
Total Average Annual Burden—Community-level | 390 |  |  | 6,855.00

Written comments and recommendations concerning the proposed information collection should be sent by May 31, 2006 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: April 24, 2006.
Anna Marsh,
Director, Office of Program Services.

[FR Doc. E6-6493 Filed 4-28-06; 8:45 am]

BILLING CODE 4162-20-P